DEPARTMENT OF LABOR

Employee Benefits Security Administration

Proposed Extension of Information Collection Request Submitted for Public Comment; COBRA Notification Requirements—American Recovery and Reinvestment Act of 2009 as Amended

AGENCY: Employee Benefits Security Administration, Department of Labor.

ACTION: Notice.

SUMMARY: The Department of Labor (the Department), in accordance with the Paperwork Reduction Act of 1995 (PRA 95) (44 U.S.C. 3506(c)(2)(A)), provides the general public and Federal agencies with an opportunity to comment on proposed and continuing collections of information. This helps the Department assess the impact of its information collection requirements and minimize the reporting burden on the public and helps the public understand the Department's information collection requirements and provide the requested data in the desired format. Currently, the Employee Benefits Security Administration is soliciting comments on the revision of the information collection provisions of its final rule at 29 CFR part 2590, Health Care Continuation Coverage to reflect the hour and cost burden associated with the COBRA notification requirements under the American Recovery and Reinvestment Act of 2009 as amended by the Department of Defense Appropriations Act of 2010 (Pub. L. 111-118). A copy of the information collection request (ICR) may be obtained by contacting the office listed in the ADDRESSES section of this notice.

DATES: Written comments must be submitted to the office shown in the Addresses section on or before June 1, 2010.

ADDRESSES: Direct all written comments regarding the information collection request and burden estimates to G. Christopher Cosby, Office of Policy and Research, Employee Benefits Security Administration, U.S. Department of Labor, 200 Constitution Avenue, NW., Room N-5647, Washington, DC 20210. Telephone: (202) 693-8410; Fax: (202) 219-4745. These are not toll-free numbers. Comments may also be submitted electronically to the following Internet e-mail address: ebsa.opr@dol.gov.

SUPPLEMENTARY INFORMATION:

I. Background

The continuation coverage provisions of section 601 through 608 of ERISA (and parallel provisions of the Internal Revenue Code (Code)) generally require group health plans to offer qualified beneficiaries' the opportunity to elect continuation coverage following certain events that would otherwise result in the loss of coverage. Continuation coverage is a temporary extension of the qualified beneficiary's previous group health coverage. The right to elect continuation coverage allows individuals to maintain group health coverage under adverse circumstances and to bridge gaps in health coverage that otherwise could limit their access to health care.

COBRA provides the Secretary of Labor (the Secretary) with authority under section 608 of ERISA to carry out the continuation coverage provisions. The Conference Report that accompanied COBRA divided interpretive authority over the COBRA provisions between the Secretary and the Secretary of the Treasury (the Treasury) by providing that the Secretary has the authority to issue regulations implementing the notice and disclosure requirements of COBRA, while the Treasury is authorized to issue regulations defining the required continuation coverage.

On February 17, 2009, President Obama signed the American Recovery and Reinvestment Act (ARRA) of 2009 (Pub. L. 111-5). ARRA includes a requirement that the Secretary of Labor (the Secretary), in consultation with the Secretaries of the Treasury and Health and Human Services, develop model notices for use by group health plans and other entities that, pursuant to ARRA, must provide notices of the availability of premium reductions and additional election periods for health care continuation coverage. On December 19, 2009, President Obama signed the Department of Defense Appropriations Act of 2010 (Pub. L. 111-118), which amended the ARRA COBRA provisions by extending the availability of the health care continuation coverage premium reduction provided for COBRA and other health care continuation coverage, and the Department revised its model notices to reflect these amendments..

On January 12, 2010, the Office of Management and Budget (OMB) approved the revised model notices as a revision to OMB Control Number 1210-0123 under the emergency procedures for review and clearance in accordance with the Paperwork Reduction Act of 1995 (Pub. L. 104-13, 44 U.S.C. Chapter 35) and 5 CFR 1320.13. On January 15, 2010, the Department published a Federal Register notice (75 FR 2562) announcing the availability of the revised model health care continuation coverage notices required by ARRA as amended on its Web site at http://www.dol.gov/ebsa/COBRAmodelnotice.html. OMB's approval of the revision currently is schedule to expire on July 31, 2010.

II. Current Actions

This notice requests public comment pertaining to the Department's request for extension of OMB's approval of its revision to OMB Control Number 1210-0123 relating to the revised ARRA model notices. After considering comments received in response to this notice, the Department intends to submit an ICR to OMB for continuing approval. No change to the existing ICR is proposed or made at this time. The Department notes that an agency may not conduct or sponsor, and a person is not required to respond to, an information collection unless it displays a valid OMB control number. A summary of the ICR and the current burden estimates follows:

Agency: Employee Benefits Security Administration, Department of Labor.

Title: COBRA Notification Requirements—American Recovery and Reinvestment Act of 2009 as amended.

Type of Review: Revision of a currently approved collection of information.

OMB Number: 1210-0123.

Affected Public: Individuals or households; Business or other for-profit; Not-for-profit institutions.

Respondents: 593,000.

Frequency of Responses: On occasion.

Responses: 38,115,000.

Estimated Total Burden Hours: None.

Estimated Total Burden Cost (Operating and Maintenance): $34,500,000.

III. Desired Focus of Comments

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICR for OMB approval of the extension of the information collection; they will also become a matter of public record.

Dated: March 29, 2010.
Joseph S. Piacentini,
Director, Office of Policy and Research, Employee Benefits Security Administration.

[FR Doc. 2010-7499 Filed 4-1-10; 8:45 am]

BILLING CODE 4510-29-P